DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On November 27, 2018, OFAC determined that the property and interests in property subject to U.S. jurisdiction of the following persons are blocked under the relevant sanctions authorities listed below.

Individuals

1. Murillo De Ortega, Rosario Maria, Managua, Nicaragua; DOB 22 Jun 1951; nationality Nicaragua; Gender Female; Passport A00000106 (Nicaragua) (individual) [Nicaragua].

Designated pursuant to section 1(a)(iii) of Executive Order XX of November 27, 2018, “Blocking Property of Certain Persons Contributing to the Situation in Nicaragua” (E.O. XX) for being an official of the Government of Nicaragua or to having served as an official of the Government of Nicaragua at any time on or after January 10, 2007.

2. Moncada Lau, Nestor (a.k.a. “CHEMA”); DOB 02 Mar 1954; POB Managua, Nicaragua; nationality Nicaragua; Gender Male (individual) [Nicaragua].

Designated pursuant to section 1(a)(v) of E.O. XX for having acted or purported to have acted for or on behalf of, directly or indirectly, Rosario Maria Murillo De Ortega, a person whose property and interests in property are blocked pursuant to E.O. XX.

Dated: November 27, 2018.
Andrea Gacki,
Director, Office of Foreign Assets Control.

[FR Doc. 2018-26126 Filed 11-30-18; 8:45 am]

BILLING CODE 4810-AL-P